DEPARTMENT OF VETERANS AFFAIRS

[OMB Control No. 2900-0662]

Agency Information Collection Activity: Civil Rights Discrimination Complaint

AGENCY: Human Resources and Administration/Operations, Security, and Preparedness (HRA/OSP), Department of Veterans Affairs.

ACTION: Notice.

SUMMARY: Human Resources and Administration/Operations, Security, and Preparedness, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before November 28, 2022.

ADDRESSES: Submit written comments on the collection of information through Federal Docket Management System (FDMS) at www.Regulations.gov or to Human Resources and Administration/Operations, Security, and Preparedness (HRA/OSP), Department of Veterans Affairs, 810 Vermont Avenue NW, Washington, DC 20420 or email to Sterling.Akins@va.gov.

Please refer to “OMB Control No. 2900-0662” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0662” in any correspondence.

SUPPLEMENTARY INFORMATION:

Under the PRA of 1995, Federal agencies must obtain approval from the Office of Management and Budget (OMB) for each collection of information they conduct or sponsor. This request for comment is being made pursuant to Section 3506(c)(2)(A) of the PRA.

With respect to the following collection of information, HRA/OSP invites comments on: (1) whether the proposed collection of information is necessary for the proper performance of HRA/OSP's functions, including whether the information will have practical utility; (2) the accuracy of HRA/OSP's estimate of the burden of the proposed collection of information; (3) ways to enhance the quality, utility, and clarity of the information to be collected; and (4) ways to minimize the burden of the collection of information on respondents, including through the use of automated collection techniques or the use of other forms of information technology.

Authority: 44 U.S.C. 3501-21. Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, HRA/OSP invites comments on: (1) whether the proposed collection of information is necessary for the proper performance of ORMDI's functions, including whether the information will have practical utility; (2) the accuracy of HRA/OSP's estimate of the burden of the proposed collection of information; (3) ways to enhance the quality, utility, and clarity of the information to be collected; and (4) ways to minimize the burden of the collection of information on respondents, including through the use of automated collection techniques or the use of other forms of information technology.

Title: Civil Rights Discrimination Complaint, VA Form 08-0381.

OMB Control Number: 2900-0662.

Type of Review: Revision of a currently approved collection.

Abstract: Veterans and other customers who believe that civil rights were violated by agency employees while receiving medical care or services in VA medical centers or institutions such as state homes receiving federal financial assistance from VA, complete VA Form 08-0381 to file a formal complaint of the alleged discrimination.

Affected Public: Individuals and households.

Estimated Annual Burden: 113 hours.

Estimated Average Burden Per Respondent: 15 minutes.

Frequency of Response: On occasion.

Estimated Number of Respondents: 450.

By direction of the Secretary.
Dorothy Glasgow,
VA PRA Clearance Officer, (Alt) Office of Enterprise and Integration/Data Governance Analytics, Department of Veterans Affairs.

[FR Doc. 2022-20916 Filed 9-27-22; 8:45 am]

BILLING CODE 8320-01-P